ENVIRONMENTAL PROTECTION AGENCY

[FRL-6883-2]

Draft EPA Guidelines for Management of Onsite/Decentralized Wastewater Systems and Guidance Manual Outline

AGENCY: Environmental Protection Agency.

ACTION: Notice of availability for comment.

SUMMARY: The U.S. Environmental Protection Agency (EPA) is making available for review and comment a draft of its Guidelines for Management of Onsite/Decentralized Wastewater Systems and an outline for a guidance manual that will be developed to supplement the guidelines. The purpose of the guidelines is to raise the level of performance of onsite/decentralized wastewater systems through improved management programs. Onsite/decentralized wastewater treatment systems include individual onsite or cluster wastewater systems (commonly referred to as septic systems, private sewage systems, individual sewage systems, etc.) used to treat and dispose of relatively small volumes of wastewater, generally from individual dwellings, or groups of dwellings and businesses which are located relatively close together. EPA is proposing the voluntary national guidelines in order to raise the quality of management programs, establish minimum levels of activity, and institutionalize the concept of management. Implementation of the guidelines will provide a greater range of options for cost-effectively meeting wastewater needs and meeting water quality and public health goals.

The guidelines contain a set of model programs, based on a comprehensive approach that relies on coordinating the responsibilities and actions among the state, tribal or local regulatory agency, the management entity or service provider and the system owner(s). These model programs are structured to reflect a need for more comprehensive management as the sensitivity of the environment and/or the degree of technological complexity increases. A program's designation increases progressively from Model Program 1 through Model Program 5, reflecting the increased level of management activities needed to achieve water quality and public health goals. Adoption of the guidelines is voluntary and EPA encourages that communities to consider the guidelines as a basis for their onsite/decentralized wastewater management program.

The guidelines apply to both existing communities and to areas of new development that use onsite/decentralized systems of any size for residential and commercial wastewater treatment and disposal.

DATES: Email or written comments are requested by December 5, 2000.

ADDRESSES: Comments can be submitted online at http://www.epa.gov/owm/smallc/guidelines.htm, emailed to decentralized@epa.gov, via U.S. mail to Joyce Hudson, US EPA, Office of Wastewater Management (4204), 1200 Pennsylvania Avenue, NW., Washington, DC 20460, or faxed to (202) 260-0116.

FOR FURTHER INFORMATION CONTACT: Any questions regarding the content of EPA's Guidelines for Management of Onsite/Decentralized Wastewater Systems can be addressed to Joyce Hudson by email at hudson.joyce@epa.gov. Additional copies of the documents may be obtained by calling Melanie Montalvo, the EPA contractor, at (703) 934-2323 or by downloading the documents at http://www.epa.gov/owm/smallc/guidelines.htm

SUPPLEMENTARY INFORMATION: In April, 1997, EPA prepared a “Response to Congress on the Use of Decentralized Wastewater Treatment Systems.” The report concluded that alternative treatment technologies offer a cost-effective, long term wastewater solution for many communities. However, the report emphasized that these “decentralized” (onsite and small cluster) technologies must be implemented in the context of a responsible management program to consistently achieve water quality and public health goals. The report identified the current lack of management as a barrier to successfully applying these otherwise promising technologies.

The development of management standards for decentralized wastewater treatment systems was therefore included in the Clean Water Action Plan (CWAP) as Action Item 77B . In fulfillment of this action item, EPA prepared a concept paper in the spring of 1999, which was gradually developed into a set of voluntary national guidelines for the management of onsite and decentralized wastewater systems. The guidelines which we are proposing for formal public comment have been developed with considerable input from various stakeholders, including other Federal agencies, State health agencies, environmental groups, trade associations and public interest groups. Based on comments received, a detailed outline was developed and comments were once again solicited, which led to the draft document in this notice.

Onsite/decentralized systems currently serve about 25 percent of the U.S. population and approximately 40 percent of new development. The vast majority of these systems are conventional onsite wastewater systems (septic systems). States report that these wastewater systems have failed because of inappropriate siting or design or inadequate long-term maintenance and that septic tank systems constitute the third most common source of ground water contamination.

The final guidelines will be accompanied by a guidance manual. An outline of this guidance manual is also available for review and comment. The final manual will provide details on assessing, developing, implementing, and sustaining a viable management program. The guidelines for management and the accompanying guidance manual are scheduled for completion in the Summer of 2001. Prior to completion, EPA will reach out to interested parties, primarily through discussions with national and State-level organizations to gain input.

Dated: September 27, 2000.
J. Charles Fox,
Assistant Administrator for Office of Solid Waste and Emergency Response.

[FR Doc. 00-25743 Filed 10-5-00; 8:45 am]

BILLING CODE 6560-50-P